DEPARTMENT OF TRANSPORTATION (DOT)

Federal Aviation Administration

Notice of Intent To Rule on a Land Release Request at Hamilton Municipal Airport (VGC), Hamilton, NY

AGENCY: Federal Aviation Administration (FAA), DOT.

ACTION: Notice of request to release airport land.

SUMMARY: The FAA proposes to rule and invites public comment on the application for a release of approximately 14.59 acres of federally obligated airport property at Hamilton Municipal Airport, Hamilton, Madison County, NY, from conditions, reservations, and restrictions contained in Airport Improvement Program (AIP) grants that would restrict the use of said land to aeronautical purposes. This acreage is composed of portions of seven parcels that were acquired by the Village of Hamilton though AIP Grants 3-36-0192-01-1995 and 3-36-0192-02-1998. It is proposed that 12.69 acres, composed of portions of seven parcels, would be released by the FAA for sale. The land is not needed for aeronautical purposes. The use of the land after the release will be compatible with the airport and will not interfere with the airport or its operation. The Federal share of the proceeds from the sales of land would be dedicated to a future AIP eligible airport effort. It is also proposed that the remaining 1.90 acres, composed of three parcels, would be released from grant obligations to permit the non-aeronautical use of the property. Concurrently, it is requested that FAA approval be given for the three currently existing long-term non-aeronautical leases on the aforementioned three parcels. The land is not needed for aeronautical purposes and the revenue from the leases is dedicated for use in operating the airport.

DATES: Comments must be received on or before June 10, 2020.

FOR FURTHER INFORMATION CONTACT: Comments on this application may be submitted to Robert Costa, Federal Aviation Administration, New York Airports District Office via phone at (718) 995-5778 or at the email address Robert.Costa@faa.gov. Comments on this application may also be mailed or delivered to the FAA at the following address: Evelyn Martinez, Manager, Federal Aviation Administration, New York Airports District Office, Federal Register Comment, 1 Aviation Plaza, Jamaica, New York 11434.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The Village of Hamilton has requested release from grant assurance obligations of approximately 12.69 acres of airport property at Hamilton Municipal Airport to permit the disposal of the land at fair market value for the purpose of commercial development. The airport has no plans to utilize the parcels for aviation use. The parcels are separated from the aviation facilities by public use roadways or are inaccessible to aviation facilities due to environmental and terrain limitations. The expected use of the parcels includes disposal for the purposes of commercial development as permitted by the Village of Hamilton Zoning. As a condition of the release, the proposed use must not interfere with the airport or its operations. The Federal share of the proceeds of the sale would be distributed towards approved AIP eligible efforts, with the remaining proceeds to be utilized to operate the airport. For these reasons, it is not anticipated that this acreage will be needed for aeronautical purposes in the future.

The Village of Hamilton has also requested release from grant assurance obligations to allow three separate parcels, composed of approximately 1.90 acres of airport property, to be used for non-aeronautical purposes. Concurrently, the Village has asked that the FAA approve of the existing long term leases pertaining to each of these parcels. The three uses are described as follows; a 0.60 acre parcel utilized for engine manufacturing and fabrication; approximately 1.11 acres currently utilized as a local police substation; approximately 0.29 acres occupied by a portion of a local business's parking lot. The Village has indicated that these parcels are not needed for current or future aviation development purposes. All rental proceeds are considered airport revenue and must be retained for use in operating the airport.

Issued in Jamaica, New York, on May 6, 2020.
Evelyn Martinez,
Manager, New York Airports District Office.

[FR Doc. 2020-10018 Filed 5-8-20; 8:45 am]

BILLING CODE 4910-13-P